DEPARTMENT OF HEALTH AND HUMAN SERVICES

Administration for Children and Families

[OMB #: 0970-0085]

Submission for Office of Management and Budget Review; 45 CFR 303.7—Provision of Services in Intergovernmental IV-D; Federally Approved Forms

AGENCY: Office of Child Support Enforcement, Administration for Children and Families, U.S. Department of Health and Human Services.

ACTION: Request for public comments.

SUMMARY: The Office of Child Support Enforcement (OCSE) is requesting a 3-year extension of the Provision of Services in Intergovernmental IV-D; Federally Approved Forms (Office of Management and Budget (OMB) #0970-0085, expiration February 28, 2026). There are no changes requested to these forms.

DATES: Comments due December 22, 2025.

ADDRESSES: The public may view and comment on this information collection request at: https://www.reginfo.gov/public/do/PRAViewICR?ref_nbr=202511-0970-004. You can also obtain copies of the proposed collection of information by emailing infocollection@acf.hhs.gov. Identify all emailed requests by the title of the information collection.

SUPPLEMENTARY INFORMATION:

Description: Public Law 113-183, the Preventing Sex Trafficking and Strengthening Families Act amends section 466(f) of the Social Security Act, requiring all states to enact any amendments to the Uniform Interstate Family Support Act “officially adopted as of September 30, 2008, by the National Conference of Commissioners on Uniform State Laws” (referred to as UIFSA 2008). Section 311(b) of UIFSA requires the states to use forms mandated by federal law. 45 CFR 303.7(a)(4) also requires child support programs to use federally approved forms in intergovernmental IV-D cases unless a country has provided alternative forms.

Respondents: State agencies administering a child support program under title IV-D of the Social Security Act.

Annual Burden Estimates

Annual burden estimates have been updated to reflect a decrease in the nationwide child support case load since the most recent full OMB review and approval process in 2023. Therefore, the annual number of responses per respondent has decreased, resulting in an overall decrease in estimated annual burden. The number of respondents and estimated time per response has not changed.

Instrument | Total number of respondents | Annual number of responses per respondent | Average burden hours per response | Annual burden hours
Transmittal #1—Initial Request | 54 | 14,216 | 0.17 | 130,503
Transmittal #1—Initial Request Acknowledgement | 54 | 14,216 | 0.05 | 38,383
Transmittal #2—Subsequent Action | 54 | 10,662 | 0.08 | 46,060
Transmittal #3—Request for Assistance/Discovery | 54 | 2,132 | 0.08 | 9,210
Uniform Support Petition (English and Spanish) | 54 | 5,686 | 0.05 | 15,352
General Testimony | 54 | 5,686 | 0.33 | 101,325
Declaration in Support of Establishing Parentage | 54 | 2,132 | 0.15 | 17,269
Child Support Locate Request | 54 | 142 | 0.05 | 383
Notice of Determination of Controlling Order | 54 | 1 | 0.25 | 14
Letter of Transmittal Requesting Registration (English and Spanish) | 54 | 8,529 | 0.08 | 36,845
Personal Information Form for UIFSA § 311 | 54 | 5,686 | 0.05 | 15,352
Child Support Agency Confidential Information Form | 54 | 17,059 | 0.05 | 46,059
Request for Change of Support Payment Location Pursuant to UIFSA 319(b) | 54 | 71 | 0.05 | 192
Estimated Total Annual Burden Hours |  |  |  | 456,947

Authority: 45 CFR 303.7.

Mary C. Jones,
ACF/OPRE Certifying Officer.

[FR Doc. 2025-20638 Filed 11-20-25; 8:45 am]

BILLING CODE 4184-41-P